DEPARTMENT OF COMMERCE

National Oceanic and Atmospheric Administration

RIN 0648-XE85

Endangered Species

AGENCY: National Marine Fisheries Service (NMFS), National Oceanic and Atmospheric Administration (NOAA), Commerce.

ACTION: Notice of Availability.

SUMMARY: NMFS has completed a draft Programmatic Environmental Assessment (PEA) on the Issuance of Endangered Species Act Permits for Scientific Research on Endangered and Threatened Sea Turtles in the North Atlantic Ocean, Caribbean Sea, and Gulf of Mexico.

DATES: Written, telefaxed, or e-mail comments must be received on or before February 13, 2008.

ADDRESSES: The PEA is available for review upon written request or by appointment in the following office:

Permits, Conservation and Education Division, Office of Protected Resources, NMFS, 1315 East-West Highway, Room 13705, Silver Spring, MD 20910; phone (301)713-2289; fax (301)427-2521; http://www.nmfs.noaa.gov/pr/permits/review.htm.

Written comments should be mailed to the Chief, Permits, Conservation and Education Division, F/PR1, at the above address.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: Sea Turtle Programmatic EA.

FOR FURTHER INFORMATION CONTACT: Patrick Opay, Amy Hapeman, or Kate Swails, (301)713-2289.

SUPPLEMENTARY INFORMATION: NMFS has authority, delegated from the Secretary of Commerce, to issue permits for research and enhancement activities under Section 10(a)(1)(A) of the Endangered Species Act (ESA; 16 U.S.C. 1531 et seq.). Permits to take endangered or threatened non-marine mammal species are governed by the ESA and NMFS implementing regulations at 50 CFR 222.301-309. Where coordination with the United States Fish and Wildlife Service is required regarding sea turtles, permits are subject to NMFS regulatory criteria at 50 CFR 222.309.

NMFS is required by the National Environmental Policy Act (NEPA) and 40 CFR 1508.27 to consider the significance of the effects of authorizing research activities on listed species of sea turtles (proposed action). The action being considered in this PEA was analyzed as a whole, by effects on affected interests, and by short- and long-term effects. Additionally, the severity of the impacts was analyzed.

NMFS is proposing to more efficently complete its review and issuance process for ESA section 10(a)(1)(A) scientific research permits and permit modifications on sea turtle species in the North Atlantic Ocean, Gulf of Mexico, and Caribbean Sea. To date, NMFS analyzes each proposed permit action through separate EAs, one for each permit application. The preferred alternative would allow NMFS to more efficently analyze the potential collective environmental impact of research activities over the next five years.

Dated: January 8, 2008.
P. Michael Payne,
Chief, Permits, Conservation and Education Division, Office of Protected Resources, National Marine Fisheries Service.

[FR Doc. E8-495 Filed 1-11-08; 8:45 am]

BILLING CODE 3510-22-S